DEPARTMENT OF DEFENSE

Office of the Secretary

[Docket ID DOD-2009-OS-0069]

Privacy Act of 1974; System of Records

AGENCY: Defense Logistics Agency, DoD.

ACTION: Notice to Amend a System of Records.

SUMMARY: The Defense Logistics Agency is proposing to amend a system of records notice in its existing inventory of record systems subject to the Privacy Act of 1974 (5 U.S.C. 552a), as amended.

DATES: The proposed action will be effective without further notice on June 18, 2009 unless comments are received which would result in a contrary determination.

ADDRESSES: Defense Logistics Agency, Privacy and FOIA Officer HQ Defense Logistics Agency Attn: General Counsel 8725 John J. Kingman Road, Stop 2533 Fort Belvoir, VA 22060-6221.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: May 13, 2009.
Morgan E. Frazier,
Alternate OSD Federal Register Liaison Officer, Department of Defense.

S370.10 CAHS

System name:

Labor Management Relations Records System (September 21, 1999, 64 FR 51103).

Changes:

System identifier:

Delete entry and replace with “S370.10” from entry.

* * * * *

System location:

Delete and replace entry with “Human Resources, Labor and Employee Relations (J-13), Headquarters, Defense Logistics Agency (DLA), 8725 John J. Kingman Road, Suite 3630, Fort Belvoir, VA 22060-6221.

Defense Logistics Agency Human Resources Center-Columbus (DHRC-C), 3990 East Broad Street, Building 11, Section 3, Columbus, OH 43213-0919.

Defense Logistics Agency Human Resources Center-New Cumberland (DHRC-N), 2001 Mission Drive, Suite 3, New Cumberland, PA 17070-5042.

Defense Logistics Agency Human Resources Center (DHRC-D), 3990 East Broad Street, Building 306, Columbus, OH 43218-25260.”

* * * * *

System manager(s) and address:

Delete entry and replace with “Director, Human Resources Office, Headquarters, Defense Logistics Agency, Attn: J-13, 8725 John J. Kingman Road, Suite 3630, Fort Belvoir, VA 22060-6221.

Director, Defense Logistics Agency Human Resources Center-Columbus (DHRC-C), 3990 East Broad Street, Building 11, Section 3, Columbus, OH 43213-0919.

Director, Defense Logistics Agency Human Resources Center-New Cumberland (DHRC-N), 2001 Mission Drive, Suite 3, New Cumberland, PA 17070-5042.

Defense Logistics Agency Human Resources Center (DHRC-D), 3990 East Broad Street, Building 306, Columbus, OH 43218-25260.”

Notification procedure:

Delete entry and replace with “Individuals seeking to determine whether information about themselves is contained in this system of records should address written inquiries to the Privacy Act Office, Headquarters, Defense Logistics Agency, Attn: DGA, 8725 John J. Kingman Road, Suite 1644, Fort Belvoir, VA 22060-6221.

Written inquiry should contain the subject individual's full name and Social Security Number, and case subject and case number, if known.”

Record access procedures:

Delete entry and replace with “Individuals seeking access to information about themselves contained in this system of records should address written inquiries to the Privacy Act Office, Headquarters, Defense Logistics Agency, Attn: DGA, 8725 John J. Kingman Road, Suite 1644, Fort Belvoir, VA 22060-6221.

Written inquiry should contain the subject individual's full name and Social Security Number, and case subject and case number, if known.”

Contesting record procedures:

Delete entry and replace with “The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.”

Record source categories:

Delete entry and replace with “The individual; Servicing Human Resources Director, arbitrator's office, the Federal Labor Relations Authority Headquarters and Regional Offices, and union officials.”

* * * * *

S370.10

System name:

Labor Management Relations Records System.

System location:

Human Resources, Labor and Employee Relations (J-13), Headquarters, Defense Logistics Agency (DLA), 8725 John J. Kingman Road, Suite 3630, Fort Belvoir, VA 22060-6221.

Defense Logistics Agency Human Resources Center-Columbus (DHRC-C), 3990 East Broad Street, Building 11, Section 3, Columbus, OH 43213-0919.

Defense Logistics Agency Human Resources Center-New Cumberland (DHRC-N), 2001 Mission Drive, Suite 3, New Cumberland, PA 17070-5042.

Defense Logistics Agency Human Resources Center (DHRC-D), 3990 East Broad Street, Building 306, Columbus, OH 43218-25260.

Categories of individuals covered by the system:

DLA or other third party employees and individuals of other Federal agencies who receive personnel support from DLA who are involved in labor grievances, disputes, or complaints which have been referred to an arbitrator for resolution.

Categories of records in the system:

The file contains the subject individual's name, Social Security Number, addresses, telephone numbers, background papers, and details pertaining to the case or issue.

Authority for maintenance of the system:

Chapter 71 of Title 5 of the U.S. Code, Labor-Management Relations and E.O. 9397 (SSN).

Purpose(s):

Records are maintained incident to the administration, processing, and resolution of unfair labor complaints, grievance-arbitrations, negotiability, and representation issues. Statistical data, with personal identifiers removed, may be used by management for reporting or policy evaluation purposes.

Routine uses of records maintained in the system, including categories of users and the purposes of such uses:

In addition to those disclosures generally permitted under 5 U.S.C. 552a(b) of the Privacy Act of 1974, these records contained therein may specifically be disclosed outside the DOD as a routine use pursuant to 5 U.S.C. 552a(b)(3) as follows:

To Representatives of the U.S. Office of Personnel Management (OPM) on matters relating to the inspection, survey, audit or evaluation of Civilian Personnel Management Programs.

To the Comptroller General or any of his authorized representatives, in the course of the performance of duties of the Government Accountability Office relating to the Labor-Management Relations Program.

To the Federal Labor Relations Authority to respond to inquiries from that office regarding complaints referred to or filed with that office.

To arbitrators, examiners, or other third parties appointed to inquire into, review, or negotiate labor-management issues.

The DoD “Blanket Routine Uses” also apply to this system of records.

Policies and practices for storing, retrieving, accessing, retaining, and disposing of records in the system:

Storage:

Records may be stored on paper and/or electronic storage media.

Retrievability:

Records are retrieved by case subject, case numbers, and/or individual employee names and Social Security Numbers.

Safeguards:

Records are maintained in areas accessible only to DLA personnel who must access the records to perform their duties. The computerized files are password protected with access restricted to authorized users. Records are secured in locked or guarded buildings, locked offices, or locked cabinets during non duty hours.

Retention and disposal:

Records will be destroyed 5 years after final resolution of the case.

System manager(s) and address:

Director, Human Resources Office, Headquarters, Defense Logistics Agency, Attn: J-13, 8725 John J. Kingman Road, Suite 3630, Fort Belvoir, VA 22060-6221,

Director, Defense Logistics Agency Human Resources Center-Columbus (DHRC-C), 3990 East Broad Street, Building 11, Section 3, Columbus, OH 43213-0919.

Director, Defense Logistics Agency Human Resources Center-New Cumberland (DHRC-N), 2001 Mission Drive, Suite 3, New Cumberland, PA 17070-5042.

Defense Logistics Agency Human Resources Center (DHRC-D), 3990 East Broad Street, Building 306, Columbus, OH 43218-25260.

Notification procedure:

Individuals seeking to determine whether information about themselves is contained in this system of records should address written inquiries to the Privacy Act Office, Headquarters, Defense Logistics Agency, Attn: DGA, 8725 John J. Kingman Road, Suite 1644, Fort Belvoir, VA 22060-6221.

Written inquiry should contain the subject individual's full name and Social Security Number, and case subject and case number, if known.

Record access procedures:

Individuals seeking access to information about themselves contained in this system of records should address written inquiries to the Privacy Act Office, Headquarters, Defense Logistics Agency, Attn: DGA, 8725 John J. Kingman Road, Suite 1644, Fort Belvoir, VA 22060-6221.

Written inquiry should contain the subject individual's full name and Social Security Number, and case subject and case number, if known.

Contesting record procedures:

The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.

Record source categories:

The individual; Servicing Human Resources Director, arbitrator's office, the Federal Labor Relations Authority Headquarters and regional offices, and union officials.

Exemptions claimed for the system:

None.

[FR Doc. E9-11619 Filed 5-18-09; 8:45 am]

BILLING CODE 5001-06-P